DEPARTMENT OF HOUSING AND URBAN DEVELOPMENT

[Docket Nos. FR-4723-FA-32, FR-4800-FA-02, FR-4900-FA-20, and FR-4950-FA-04]

Announcement of Past Funding Awards for the Youthbuild Program Fiscal Years 2002, 2003, 2004, and 2005

AGENCY: Office of the Assistant Secretary for Community Planning and Development, HUD.

ACTION: Notice of funding awards.

SUMMARY: In accordance with section 102 (a)(4)(C) of the Department of Housing and Urban Development Reform Act of 1989, this announcement notifies the public of past funding decisions made by the Department in a competition for funding under the 2002, 2003, 2004, and 2005 Notices of Funding Availability (NOFAs) for the Youthbuild program. This announcement contains the names of the awardees and the amounts of the awards made available by HUD in 2002, 2003, 2004, and 2005. Federal Register notices on these actions were not published at the time, however the public was advised of these grant selections since they were posted on HUD's Web site. The postings contained listings of the selected applicants including descriptions of the projects.

FOR FURTHER INFORMATION CONTACT: Robert Duncan, Associate Deputy Assistant Secretary, Office of Economic Development, Office of Community Planning and Development, 451 Seventh Street, SW., Room 7140, Washington, DC 20410-7000; telephone (202) 708-3773 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The purpose of the Youthbuild program is to assist disadvantaged young adults in distressed communities in completing their high school education, to provide on-site construction training experiences which also results in the rehabilitation or construction of housing for homeless persons and low- and very low-income families, to foster leadership skills, to further opportunities for placement in apprenticeship programs, and to promote economic self-sufficiency.

The grants competitions were included within the SuperNOFAs (Notice of Funding Availability) announcements for HUD's Discretionary Programs. The Fiscal Year (FY) 2002 competition was announced on March 26, 2002 (67 FR 14163) and provided approximately $59,750,000 in funding. The FY2003 competition was announced on April 25, 2003 (68 FR 21453) and provided approximately $54,642,500 in funding. The FY2004 competition was announced on May 14, 2004 (69 FR 27369) and provided approximately $59,397,475 in funding. The FY2005 competition was announced on March 21, 2005 (70 FR 13997) and provided approximately $56,444,800 in funding. For all Youthbuild awards, carry over was available, as well as any funds available through recapture, minus any amount needed to correct errors. Applications were reviewed and rated on the basis of selection criteria contained in each corresponding NOFA. This notice fulfills a required grants management action.

For the FY2002 competition, a total of $59,126,953 was provided to 108 grant recipients nationwide. For the FY2003 competition, a total of $56,627,000 was provided to 111 grant recipients nationwide. For the FY2004 competition, a total of $55,945,461 was provided to 98 grant recipients nationwide. For the FY 2005 competition, a total of $58,037,538 was provided to 111 grant recipients nationwide. Project information for all years was made available on the Department's Web site. Notices on these grant selections were inadvertently not published at the time in the Federal Register.

In accordance with section 102(a)(4)(C) of the Department of Housing and Urban Development Reform Act of 1989 (103 Stat. 1987, 42 U.S.C. 3545), the Department is publishing the grantees and the amounts of the awards in Appendix A to this document.

Dated: August 8, 2006.
William H. Eargle, Jr.,
Deputy Assistant Secretary for Operations.

Appendix A.—Fiscal Year 2002 Funding Awards for the Youthbuild Program
Recipient | State | Amount
Southeast Alaska Guidance Association | AK | $599,882.00
City of Phoenix | AZ | 700,000.00
Portable Practical Education Preparation, Inc | AZ | 400,000.00
Century Center for Economic Opportunity | CA | 700,000.00
City of Richmond | CA | 700,000.00
City of Vacaville | CA | 400,000.00
Community Services & Employment Training, Inc | CA | 700,000.00
Contra Costa County Redevelopment Agency | CA | 600,000.00
Fresno County Economic Opportunities Commission | CA | 900,000.00
Greenfield City | CA | 400,000.00
Los Angeles Conservation Corps | CA | 399,770.00
Neighborhood Housing Services of the Inland Empire, Inc | CA | 700,000.00
Pacific Asian Consortium in Employment | CA | 700,000.00
Public Allies Los Angeles | CA | 399,764.00
San Jose Conservation Corps | CA | 700,000.00
Venice Community Housing Corporation | CA | 410,877.00
Watsonville City | CA | 664,182.00
Youth Employment Partnership, Inc | CA | 820,000.00
Yuba County Office of Education | CA | 400,000.00
Southern Ute Community Action Programs, Inc | CO | 308,459.00
Year One, Inc | CO | 398,005.00
CoOpportunity, Inc | CT | 900,000.00
New Britain City | CT | 517,918.00
ARCH Training Center, Inc | DC | 700,000.00
Sasha Bruce Youthwork, Inc | DC | 520,000.00
Centro Campesino Farmworker Center, Inc | FL | 400,000.00
Daniel Memorial, Inc | FL | 400,000.00
DISC Village, Inc | FL | 400,000.00
Gainesville Housing Authority | FL | 377,916.00
Southwest Georgia United Empowerment Zone, Inc | GA | 400,000.00
Honolulu City and County | HI | 524,409.00
Comprehensive Community Solutions, Inc | IL | 699,329.00
Daisy's Resource and Developmental Center | IL | 700,000.00
Emerson Park Development Corporation | IL | 700,000.00
Futures Unlimited, Inc | IL | 399,730.00
OAI, Inc | IL | 399,982.00
Rock Island Economic Growth Corporation | IL | 400,000.00
Youth Conservation Corps, Inc | IL | 399,932.00
YouthBuild McLean County | IL | 900,000.00
Housing Authority of the City of Evansville | IN | 400,000.00
Tree of Life Community Development Corporation and Care Center | IN | 700,000.00
Louisiana Tech. College—Sullivan Campus | LA | 400,000.00
Louisiana Technical College—Tallulah | LA | 400,000.00
Mirabeau Family Learning Center, Inc | LA | 669,450.00
Terrebonne Parish Consolidated Government | LA | 642,305.00
Community Teamwork, Inc | MA | 700,000.00
Lawrence Family Development & Education Fund | MA | 700,000.00
Massachusetts Job Training, Inc | MA | 698,800.00
Old Colony YMCA | MA | 699,961.00
People Acting in Community Endeavors | MA | 400,000.00
YWCA of Western Massachusetts | MA | 699,300.00
Housing Authority of Baltimore | MD | 700,000.00
Coastal Enterprises, Inc | ME | 400,000.00
Neighborhood Information and Sharing Exchange | MI | 400,000.00
Bi-County Community Action Programs, Inc | MN | 400,000.00
Advent Enterprises, Inc | MO | 399,336.00
Housing Authority of St. Louis | MO | 700,000.00
Midtown Community Development Corporation | MO | 700,000.00
Youth, Education, and Health/Soul | MO | 700,000.00
Hollandale School District | MS | 698,677.00
SHARE of North Carolina, Inc | NC | 400,000.00
High Plains Community Development Corporation | NE | 399,959.00
Episcopal Community Development, Inc | NJ | 400,000.00
First Occupational Center of New Jersey | NJ | 400,000.00
Housing Authority of the City of Camd | NJ | 400,000.00
Isles, Inc | NJ | 900,000.00
Youth Building Better Lives, Inc | NM | 500,000.00
Banana Kelly Community Improvement Association, Inc | NY | 700,000.00
Episcopal Services, Inc | NY | 462,694.00
Ulster County Board of Cooperative Educational Services | NY | 400,000.00
Urban League of Rochester | NY | 500,000.00
Youth Action Programs and Homes, Inc | NY | 846,240.00
YWCA Duchess County | NY | 400,000.00
YWCA of Greater New York | NY | 699,976.00
Akron Sumit Community Action, Inc | OH | 700,000.00
Buckeye Community Hope Foundation | OH | 700,000.00
Columbus Works, Inc | OH | 400,000.00
Community Action Commission of Fayette County | OH | 400,000.00
Hamilton City | OH | 494,685.00
ISUS Trade and Technology Prep Community School | OH | 697,676.00
Sojourners Care Network | OH | 400,000.00
City of Portland | OR | 642,840.00
Community Services Consortium | OR | 460,862.00
Crispus Attucks Community Development Corporation | PA | 700,000.00
Philadelphia Youth for Change Charter School | PA | 700,000.00
Resources for Human Development, Inc | PA | 700,000.00
San German City/Workforce Investment | PR | 400,000.00
Providence Plan | RI | 675,000.00
GATE | SC | 400,000.00
Lancaster County School District | SC | 396,399.00
Palmetto Community Hope Foundation | SC | 700,000.00
Sumter County | SC | 700,000.00
Chattanooga Housing Authority | TN | 400,000.00
Shelby County Government | TN | 527,562.00
American Youthworks | TX | 653,632.00
Community Development Corporation of Brownsville | TX | 400,000.00
George Gervin Youth Center, Inc | TX | 864,113.00
Housing Authority of the City of Crystal City | TX | 399,725.00
Walker Montgomery Community Development Corporation | TX | 400,000.00
Petersburg Urban Ministries, Inc | VA | 849,392.00
Virgin Islands Housing Authority | VI | 696,453.00
Youth Building for the Future, Inc | VT | 463,100.00
Educational Service District 101 | WA | 400,000.00
Operation Fresh Start, Inc | WI | 261,652.00
Wisconsin Department of Administration | WI | 387,009.00
RANDOLPH COUNTY | WV | 182,552.00
Randolph County Housing Authority | WV | 217,448.00
Southern Appalachian Labor School | WV | 400,000.00
Total |  | 59,126,953.00

Fiscal Year 2003 Funding Awards for the Youthbuild Program
Recipient | State | Amount
Mobile Housing Board | AL | $700,000.00
YWCA of Central Alabama | AL | 400,000.00
Pulaski Technical College | AR | 398,000.00
Phoenix City | AZ | 700,000.00
Pima County | AZ | 575,000.00
Town of Guadalupe | AZ | 400,000.00
Yuma Private Industry Council, Inc | AZ | 400,000.00
Century Center for Economic Opportunity | CA | 700,000.00
Community Action Partnership of Sonoma County | CA | 400,000.00
Community Partnership Dev. Corp | CA | 700,000.00
Los Angeles Conservation Corps | CA | 700,000.00
Moreno Valley City | CA | 400,000.00
Orange County Conservation Corps | CA | 400,000.00
Pacific Asian Consortium in Employment | CA | 700,000.00
PHFE Mgmt Solutions | CA | 400,000.00
Venice Community Housing Corporation | CA | 480,000.00
Watts Labor Community Action Committee | CA | 400,000.00
Youth Employment Partnership, Inc | CA | 700,000.00
Yuba County Office of Education | CA | 400,000.00
Mile High Youth Corps | CO | 432,000.00
CO OPPORTUNITY INC | CT | 700,000.00
ARCH Training Center, Inc | DC | 700,000.00
Latin American Youth Center | DC | 478,000.00
Sasha Bruce Youthwork, Inc | DC | 535,000.00
Centro Campesino Farmworker Center, Inc | FL | 400,000.00
Consolidated City of Jacksonville | FL | 700,000.00
Space Coast Youthbuild Coalition | FL | 400,000.00
Flint Area Consolidated Housing Authority | GA | 400,000.00
Goodwill Industries of North Georgia, Inc | GA | 400,000.00
SW Ga United Empowerment Zone, Inc | GA | 400,000.00
Honolulu City and County | HI | 700,000.00
Comprehensive Community Solutions, Inc | IL | 700,000.00
Daisy's Resource and Development Ctr | IL | 700,000.00
Emerson Park Development Corporation | IL | 151,788.00
Emerson Park Development Corporation | IL | 548,212.00
Genesis Housing Development Corporation | IL | 697,000.00
YouthBuild McLean County | IL | 500,000.00
United Way of Wyandotte County, Inc | KS | 700,000.00
Hazard Community College | KY | 368,000.00
Northern Kentucky Community Action Commission | KY | 400,000.00
Young Adult Development in Action, Inc | KY | 698,000.00
Louisiana Technical College—Tallulah | LA | 400,000.00
Louisiana Technical College—Sullivan | LA | 400,000.00
Community Teamwork, Inc | MA | 700,000.00
Just A Start Corporation | MA | 700,000.00
Old Colony YMCA | MA | 700,000.00
Training Resources of America, Inc | MA | 700,000.00
Training Resources of America, Inc | MA | 700,000.00
Portland West, Inc | ME | 700,000.00
Community Action Agency of South Central Michigan | MI | 400,000.00
Young Detroit Builders | MI | 700,000.00
Bi-County Community Action Program | MN | 400,000.00
Housing Authority of St. Louis | MO | 700,000.00
West Jackson Community Development Corporation | MS | 700,000.00
River City Community Development Corp | NC | 400,000.00
University of North Carolina at Greensboro | NC | 593,000.00
High Plains Community Development | NE | 400,000.00
Episcopal Community Development, Inc | NJ | 700,000.00
Housing Authority of the City of Camden | NJ | 700,000.00
Housing Authority of the City of Elizabeth | NJ | 400,000.00
Isles, Inc | NJ | 700,000.00
New Jersey Community Development Corp | NJ | 700,000.00
Estrella Nativa, Inc | NM | 400,000.00
Taos County | NM | 400,000.00
Youth Building Better Lives, Inc | NM | 500,000.00
Albany City | NY | 700,000.00
Chautauqua Home Rehab. & Improvement Corp | NY | 400,000.00
Commission on Economic Opportunity | NY | 700,000.00
Ulster County BOCES | NY | 400,000.00
Utica Municipal Housing Authority | NY | 400,000.00
Youth Action and Homes, Inc | NY | 700,000.00
Buckeye Community Hope Foundation | OH | 700,000.00
ISUS Trade Y Tech Prep Community School | OH | 700,000.00
Pickaway Co. Community Action Org., Inc | OH | 400,000.00
Project Rebuild, Inc | OH | 700,000.00
Sojourners Care Network | OH | 400,000.00
Youngstown Metropolitan Housing Authority | OH | 699,000.00
Eagle Ridge Institute | OK | 400,000.00
Community Services Consortium | OR | 545,000.00
Portland City (Oregon) | OR | 675,000.00
Action-Housing, Inc | PA | 400,000.00
Philadelphia Youth for Change Charter School | PA | 39,585.00
Philadelphia Youth for Change Charter School | PA | 16,703.00
Philadelphia Youth for Change Charter School | PA | 643,712.00
Urban League of Rhode Island, Inc | RI | 400,000.00
Macedonia Community Development Corp | SC | 400,000.00
North Charleston (City) Housing Authority | SC | 400,000.00
Palmetto Community Hope Foundation | SC | 700,000.00
Telamon Corporation | SC | 394,000.00
American YouthWorks | TX | 700,000.00
Austin/Travis County HHSD | TX | 400,000.00
Community Action Council of South Texas | TX | 400,000.00
George Gervin Youth Center, Inc | TX | 700,000.00
Housing Authority of the City of Crystal City | TX | 400,000.00
Proyecto Azteca | TX | 400,000.00
San Antonio Youth Centers, Inc | TX | 400,000.00
Walker-Montgomery C.D.C | TX | 400,000.00
Salt Lake County | UT | 398,000.00
Danville Redevelopment & Housing Authority | VA | 400,000.00
Petersburg Urban Ministries, Inc | VA | 700,000.00
Waynesboro Redevelopment and Housing Authority | VA | 493,000.00
King County | WA | 700,000.00
Milwaukee Christian Center | WI | 226,000.00
OIC Racine County, Inc | WI | 400,000.00
Operation Fresh Start, Inc | WI | 278,000.00
State of Wisconsin Dept. of Administration | WI | 399,000.00
State of Wisconsin Dept. of Administration | WI | 266,000.00
Human Resource Development and Employment, Inc | WV | 400,000.00
Randolph County Housing Authority | WV | 400,000.00
Southern Appalachian Labor School | WV | 112,448.00
Southern Appalachian Labor School | WV | 287,552.00
Total |  | 56,627,000.00

Fiscal Year 2004 Funding Awards for the Youthbuild Program
Recipient | State | Amount
Southeast Alaska Guidance Association (SAGA) | AK | $677,200.00
Pulaski Technical College | AR | 397,832.00
City of Phoenix | AZ | 700,000.00
Black Contractors Association of San Diego | CA | 700,000.00
Board of Trustees of the Glide Foundation | CA | 400,000.00
City of Greenfield | CA | 400,000.00
City of Watsonville | CA | 686,000.00
Community Action Partnership of Sonoma Co | CA | 400,000.00
Contra Costa County Redevelopment Agency | CA | 700,000.00
Fresno County Economic Opportunities Commission | CA | 700,000.00
Mojave Basin Youth Corps, Inc | CA | 699,980.00
San Jose Conservation Corps | CA | 700,000.00
Valley Inc.—LA CAUSA | CA | 400,000.00
Venice Community Housing Corporation | CA | 480,000.00
Youth Employment Partnership, Inc | CA | 700,000.00
Yuba County Office of Education | CA | 400,000.00
Co-Opportunity, Inc | CT | 700,000.00
ARCH Training Center, Inc | DC | 700,000.00
Latin American Youth Center | DC | 473,685.00
National Association of Foster Care Children of America, Inc | DC | 400,000.00
Sasha Bruce Youthwork, Inc | DC | 700,000.00
Boley Centers for Behavioral Health Care, Inc | FL | 700,000.00
Daniel Memorial JaxBuild, Inc | FL | 700,000.00
Cobb Housing, Inc | GA | 700,000.00
Fulton Atlanta Community Action Authority, Inc | GA | 700,000.00
Savannah, City of | GA | 398,385.00
SW Georgia United Empowerment Zone, Inc | GA | 400,000.00
Comprehensive Community Solutions | IL | 699,248.00
YouthBuild McLean County | IL | 700,000.00
United Way of Wyandotte County, Inc | KS | 700,000.00
Hazard Community and Technical College | KY | 398,894.00
Morehead State University | KY | 400,000.00
Young Adult Development in Action, Inc | KY | 700,000.00
Housing Authority of East Baton Rouge | LA | 400,000.00
Louisiana Technical College—Sullivan Campus | LA | 400,000.00
Louisiana Technical College—Tallulah | LA | 400,000.00
Lawrence Family Development & Education Fund, Inc | MA | 700,000.00
Nueva Esperanza, Inc | MA | 695,000.00
Old Colony YMCA | MA | 700,000.00
People Acting in Community Endeavors | MA | 700,000.00
Youthbuild Boston, Inc | MA | 700,000.00
YWCA of Western Massachusetts | MA | 700,000.00
Suitland Family and Life Development Corp | MD | 400,000.00
Coastal Enterprises, Inc. (CEI) | ME | 400,000.00
Ozone House, Inc | MI | 400,000.00
Young Detroit Builders | MI | 164,585.00
Young Detroit Builders | MI | 535,415.00
Minnesota Dept. of Employment and Economic Development | MN | 400,000.00
Advent Interprises (Columbia Builds Youth—CBY) | MO | 699,999.00
HI-Tech Charities (HTC) | MO | 700,000.00
Housing Authority of St. Louis County | MO | 700,000.00
Swope Community Builders | MO | 700,000.00
Youth Education of Health in Soulard | MO | 700,000.00
Housing Authority of the City of Wilmington | NC | 700,000.00
Serve Management Group, Inc | NC | 400,000.00
Goodwill Industries, Inc | NE | 400,000.00
Episcopal Community Development | NJ | 699,996.00
Essex County College | NJ | 697,735.00
Housing Authority of the City of Camden | NJ | 700,000.00
Isles, Inc | NJ | 700,000.00
Youth Building Better Lives, Inc | NM | 500,000.00
Buffalo & Erie Co. Workforce Dev. Cons., Inc | NY | 400,000.00
Jubilee Homes of Syracuse | NY | 400,000.00
South Bronx Overall Economic Development Corp | NY | 695,916.00
St. John's Place Family Center, HDFC | NY | 400,000.00
Town of West Seneca | NY | 696,761.00
YMCA of Greater New York | NY | 700,000.00
Youth Action Programs and Homes, Inc | NY | 700,000.00
Buckeye Community Hope Foundation | OH | 700,000.00
ISUS, Inc | OH | 700,000.00
Project Rebuild, Inc | OH | 700,000.00
Youth Over Us | OH | 400,000.00
Portland, City of | OR | 685,000.00
The Job Council | OR | 400,000.00
Action-Housing, Inc | PA | 700,000.00
Concerned Citizens' Community Creation Center (dba 5Cs Corp.) | PA | 400,000.00
Crispus Attucks Association, Inc | PA | 700,000.00
Philadelphia Youth for Change Charter School | PA | 700,000.00
Providence Plan | RI | 700,000.00
Allendale County ALIVE, Inc | SC | 400,000.00
Gate (Garrett Apprenticeship, Training and Education) | SC | 400,000.00
Lancaster County School District | SC | 396,399.00
Chattanooga Housing Authority | TN | 700,000.00
Community Development Corp. of Brownsville | TX | 400,000.00
George Gervin Youth Center, Inc | TX | 700,000.00
San Antonio Youth Centers, Inc | TX | 700,000.00
Bristol Redevelopment & Housing Authority | VA | 400,000.00
Danville Redevelopment and Housing Authority | VA | 700,000.00
Employment Resources Incorporated (ERI) | VA | 400,000.00
Petersburg Urban Ministries | VA | 700,000.00
Tidewater Builders Association | VA | 700,000.00
ReCycle North | VT | 400,000.00
King County | WA | 700,000.00
OIC of Racine County, Inc | WI | 697,637.00
Operation Fresh Start, Inc | WI | 269,794.00
Human Resource Development and Employment, Inc | WV | 400,000.00
Huntington Housing Authority | WV | 400,000.00
Randolph County Housing Authority | WV | 400,000.00
Total |  | 55,945,461.00

Fiscal Year 2005 Funding Awards for the Youthbuild Program
Recipient | State | Amount
PPEP Youthbuild Somerton—San Luis | AZ | $400,000.00
Town of Guadalupe | AZ | 400,000.00
Able-Disable Advocacy, Inc | CA | 400,000.00
City of Richmond Youthbuild | CA | 400,000.00
Community Action Partnership—Sonoma Co | CA | 400,000.00
Los Angeles Conservation Corps | CA | 700,000.00
San Joaquin County Office of Education | CA | 400,000.00
The Valley, Inc.—LA CAUSA | CA | 700,000.00
Youth Employment Partnership, Inc | CA | 700,000.00
Yuba County Office of Education | CA | 400,000.00
Year One, dba Mile High Youth Corps | CO | 434,000.00
Co-Opportunity, Inc | CT | 700,000.00
ARCH Training Center | DC | 700,000.00
Latin American Youth Center | DC | 536,039.00
Centro Campesino Farmworker Center, Inc | FL | 400,000.00
City of Sanford, Florida | FL | 400,000.00
Consolidated City of Jacksonville | FL | 700,000.00
Community Housing Resource Center | GA | 400,000.00
Prevention Plus Inc. | GA | 400,000.00
SW GA United Empowerment Zone, Inc | GA | 400,000.00
Comprehesive Community Solutions, Inc | IL | 699,839.00
Emerson Park Development Corpoation | IL | 700,000.00
United Methodist Children's Home | IL | 400,000.00
Youthbuild Lake County | IL | 700,000.00
Youthbuild McLean County | IL | 699,976.00
United Way of Wyandotte County, Inc | KS | 700,000.00
Cumberland Valley Area Dev. District | KY | 400,000.00
Hope Center, Inc | LA | 400,000.00
Louisiana Technical College—Tallulah | LA | 75,913.00
Louisiana Technical College—Tallulah | LA | 324,087.00
Workforce Investment Board LWIA #40 | LA | 400,000.00
Community Teamwork, Inc | MA | 700,000.00
Just-A-Start Corporation | MA | 700,000.00
Old Colony—Brockton | MA | 700,000.00
Old Colony—Fall River | MA | 700,000.00
Training Resources of America Inc | MA | 700,000.00
Youthbuild Boston, Inc | MA | 700,000.00
Portland West, Inc | ME | 700,000.00
Career Alliance, Inc | MI | 393,687.00
Young Detroit Builders | MI | 700,000.00
Bi-Co. Community Action Programs, Inc | MN | 400,000.00
Tree Trust | MN | 400,000.00
Housing Authority of St. Louis County | MO | 700,000.00
Job Point | MO | 400,000.00
Job Point | MO | 700,000.00
SWOPE Community Builders | MO | 700,000.00
Youth Education and Health in Soulard | MO | 700,000.00
Jefferson Co. Brd. Sprvsrs. Econ. Dev | MS | 399,632.00
Serve Management Group | NC | 400,000.00
Telamon Corporation—South Carolina | NC | 400,000.00
High Plains Community Dev. Corp., Inc | NE | 400,000.00
Episcopal Community Dev., Inc | NJ | 700,000.00
Housing Authority of the City of Camden | NJ | 700,000.00
Isles, Inc | NJ | 700,000.00
New Jersey Community Development Corp | NJ | 700,000.00
Taos County | NM | 400,000.00
Youth Building Better Lives, Inc | NM | 694,883.00
Abyssinian Development Corporation | NY | 400,000.00
Northeast Parent & Child Society | NY | 390,011.00
South Bronx Overall Econ. Dev | NY | 700,000.00
Buckeye Community Hope Foundation | OH | 700,000.00
Community Action Cmmssn.—Fayette Co | OH | 400,000.00
Cuyahoga Metro. Housing Authority | OH | 400,000.00
Future Community Builders | OH | 400,000.00
ISUS Inc | OH | 700,000.00
Pickaway Co. Community Action Org., Inc | OH | 400,000.00
Project REBUILD, Inc | OH | 700,000.00
The Way Station Inc | OH | 400,000.00
Trumbull Metropolitan Housing Authority | OH | 362,450.00
Youngstown Metropolitan H.A | OH | 700,000.00
Youth Over Us, Inc | OH | 700,000.00
Eagle Ridge Institute | OK | 700,000.00
Community Services Consortium | OR | 400,000.00
Portland Youthbuilders | OR | 685,000.00
ACTION—Housing, Inc | PA | 700,000.00
Bayfront NATO, Inc | PA | 400,000.00
Crispus Attucks Association, Inc | PA | 700,000.00
Philadelphia Youth for Change | PA | 700,000.00
Resources for Human Development, Inc | PA | 700,000.00
Spanish American Civic Association | PA | 397,437.00
San German City/Workforce Invstmnt Brd | PR | 700,000.00
The Providence Plan | RI | 700,000.00
Allendale County ALIVE Youthbuild | SC | 400,000.00
Clemson University Youthbuild Upstate | SC | 400,000.00
Alliance for Business and Training | TN | 399,309.00
Alameda Heights Outreach Foundation | TX | 400,000.00
American YouthWorks | TX | 700,000.00
George Gervin Youth Center, Inc | TX | 700,000.00
Walker Montgomery Community Dev. Corp | TX | 400,000.00
Bristol Redevelopment H.A | VA | 400,000.00
Lonesome Pine Office on Youth | VA | 400,000.00
Petersburg Urban Ministries | VA | 700,000.00
Total Action Against Poverty | VA | 700,000.00
Waynesboro Redevelopment & HA | VA | 492,669.00
Virgin Islands Housing Authority | VA | 700,000.00
ReCycle North YouthBuild | VT | 500,000.00
King County | WA | 31,270.00
King County | WA | 668,730.00
Tacoma Goodwill Industries | WA | 400,000.00
ADVOCAP, Inc | WI | 400,000.00
CAP Services, Inc | WI | 400,000.00
Community Action, Inc | WI | 400,000.00
Indianhead Community Action Agency, Inc | WI | 308,486.00
Indianhead Community Action Agency, Inc | WI | 308,486.00
Milwaukee Christian Center | WI | 519,621.00
Operation Fresh Start, Inc | WI | 256,842.00
PIC of Milwaukee Co., Inc | WI | 400,000.00
Renewal Unlimited, Inc | WI | 359,171.00
Human Resource Dev & Employment, Inc | WV | 400,000.00
Randolph County Housing Authority | WV | 400,000.00
Southern Appalachian Labor School | WV | 400,000.00
Total |  | 58,037,538.00

[FR Doc. E6-14085 Filed 8-24-06; 8:45 am]

BILLING CODE 4210-67-P